DEPARTMENT OF HEALTH AND HUMAN SERVICES

Announcing a Public Meeting of the President's Council on Sports, Fitness & Nutrition

AGENCY: Office of Disease Prevention and Health Promotion, Office of the Assistant Secretary for Health, Office of the Secretary, Department of Health and Human Services.

ACTION: Notice.

SUMMARY: As stipulated by the Federal Advisory Committee Act, the U.S. Department of Health and Human Services (HHS) is hereby giving notice that the President's Council on Sports, Fitness & Nutrition (PCSFN) will hold a meeting for the subcommittees to share their plans and progress with the full Council. The meeting will be open to the public.

DATES: The meeting will be held on October 26, 2023, from 1:30 p.m. to 3 p.m. ET.

ADDRESSES: The meeting will be held virtually. The meeting will be accessible and recorded for later viewing. The public can obtain information on how to access the virtual meeting on https://health.gov/our-work/nutrition-physical-activity/presidents-council prior to the meeting.

FOR FURTHER INFORMATION CONTACT: Designated Federal Officer for the PCSFN, Rachel Fisher, MS, MPH, RD; HHS/OASH/ODPHP, 1101 Wootton Parkway, Suite 420, Rockville, MD 20852, 240-453-8257; Email fitness@hhs.gov. Information about PCSFN, including details about the upcoming meeting, when they are available, can be obtained at https://health.gov/our-work/nutrition-physical-activity/presidents-council.

SUPPLEMENTARY INFORMATION:

Authority and Purpose: The primary functions of the PCSFN include advising the President, through the Secretary and functioning as liaisons and spokespersons on behalf of the PCSFN to relevant State, local, and private entities, and sharing information about the work of the PCSFN to advise the Secretary regarding opportunities to extend and improve physical activity, fitness, sports, and nutrition programs and services at the State, local, and national levels.

Purpose of the Meeting: At the meeting, the PCSFN subcommittees will provide updates on their plans and progress with the full Council. The Council will deliberate on the proposed plans for future activities. These activities include (but are not limited to) efforts to address the implementation of the National Strategy on Hunger, Nutrition, and Health; promotion of partnership opportunities and community engagement; and messaging around healthy eating and physical activity.

Meeting Agendas: The meeting agenda is in development and will be posted at https://health.gov/our-work/nutrition-physical-activity/presidents-council/council-meetings when it is finalized.

Meeting Information: The virtual meeting is open to the public and the media. The meeting will be accessible online and recorded for later viewing. The public can obtain information on how to access the virtual meeting on https://health.gov/our-work/nutrition-physical-activity/presidents-council prior to the meeting. The meeting will include an option to enable closed captioning. To request other special accommodations, please notify fitness@hhs.gov no later than 5 p.m. ET on Thursday, October 19, 2023.

Paul Reed,
Deputy Assistant Secretary for Health, Office of Disease Prevention and Health Promotion.

[FR Doc. 2023-21822 Filed 10-2-23; 8:45 am]

BILLING CODE 4150-32-P